DEPARTMENT OF HEALTH AND HUMAN SERVICES

Administration for Children and Families

Proposed Information Collection Activity; Comment Request

Proposed Projects

Title: Child Care and Development Fund Plan for States/Territories for FFY 2016-2018 (ACF-118).

OMB No.: 0970-0114.

Description: The Child Care and Development Fund (CCDF) Plan (the Plan) for States and Territories is required from each CCDF Lead agency in accordance with Section 658E of the Child Care and Development Block Grant (CCDBG) Act, as amended, by Public Law 113-186 and U.S.C 9858. The Plan provides ACF and the public with a description of, and assurances about, the States' and Territories' child care programs.

On November 19, 2014, the President signed the CCDBG Act of 2014 into law. The law (Pub. L. 113-186) made significant changes to the CCDF Program to protect the health and safety of children in child care, promote continuity of access to subsidy for low-income families, better inform parents and the general public about the child care choices available to them, and improve the overall quality of early learning and afterschool programs. The CCDBG Act also changed the Plan cycle from a biennial to a triennial Plan period; thus, the FY 2016-2018 Plan will cover a 3-year period.

The Office of Management and Budget (OMB) granted OCC an emergency clearance of the FY 2016-2018 CCDF State/Territory Plan Preprint which provided a single 30-day comment period from January 30, 2015-March 2, 2015, to enable States and Territories time to submit their Plans by July 1, 2015 on the OMB approved form. Upon careful consideration of the concerns raised by States and Territories regarding the July submission date, OCC extended the submission deadline for the FY 2016—2018 CCDF Plan from July 1, 2015 to March 1, 2016. This will give State and Territory grantees more time to engage partner agencies and stakeholders, brief legislators on needed statutory changes, and develop meaningful implementation plans. The extension does not extend the FY 2016-2018 3-year plan period; Plans will be effective through September 30, 2018.

The change in the Plan submission deadline enables the OCC to complete the regular Paperwork Reduction Act (PRA) clearance process which requires two Federal Register notices and comment periods—with this notice being the first under that regular process. OCC is now requesting comment on a revised version of the Plan Pre-print that takes into consideration the public comments received during the earlier 30-day emergency comment period. We recognize that some States and Territories had asked for additional interpretation of the new provisions in the law. OCC has included guidance and clarification in the revised Preprint where appropriate and through Program Instructions and Frequently Asked Questions, which are available at: http://www.acf.hhs.gov/programs/occ/ccdf-reauthorization. Pending the issuance of implementing regulations, States are to comply with the law based on their reasonable interpretation of the requirements in the revised CCDBG statute.

Respondents: State and Territory Agencies (56).

Annual Burden Estimates
Instrument | Number of respondents | Number of responses per respondent | Average burden hours per response | Total burden hours
CCDF Preprint | 56 | 0.50 | 162.5 | 4,550

Estimated Total Annual Burden Hours:

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-12694 Filed 5-26-15; 8:45 am]

BILLING CODE 4184-01-P